DEPARTMENT OF TRANSPORTATION

Federal Aviation Administration

14 CFR Part 39

[Docket No. 2002-NM-351-AD]

RIN 2120-AA64

Airworthiness Directives; Empresa Brasileira de Aeronautica S.A. (EMBRAER) Model EMB-135 and -145 Series Airplanes

AGENCY: Federal Aviation Administration, DOT.

ACTION: Notice of proposed rulemaking (NPRM).

SUMMARY: This document proposes the supersedure of an existing airworthiness directive (AD), applicable to certain EMBRAER Model EMB-135 and -145 series airplanes. That AD currently requires a one-time inspection to detect incorrect wiring of the electrical connectors to the pressure switches and cartridges on the fire extinguisher bottles for the engines and the auxiliary power unit (APU); disconnection and reconnection of the wiring, as necessary; and adjustment of the length of the harnesses on the fire extinguisher bottles to avoid future misconnections. This action would require additional adjustment of the length of the harnesses; installation of a color-coded identification system to avoid misconnections during maintenance; and a functional test of the engine fire extinguisher system. This action would also expand the applicability of the existing AD to include additional airplanes. The actions specified by the proposed AD are intended to prevent the issuance of erroneous commands or the receipt of erroneous information pertaining to the fire extinguisher system for the engines and the APU, which could result in the inability to put out a fire in an engine or in the APU. This action is intended to address the identified unsafe condition.

DATES: Comments must be received by June 11, 2004.

ADDRESSES: Submit comments in triplicate to the Federal Aviation Administration (FAA), Transport Airplane Directorate, ANM-114, Attention: Rules Docket No. 2002-NM-351-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-351-AD” in the subject line and need not be submitted in triplicate. Comments sent via the Internet as attached electronic files must be formatted in Microsoft Word 97 or 2000 or ASCII text.

The service information referenced in the proposed rule may be obtained from Empresa Brasileira de Aeronautica S.A. (EMBRAER), P.O. Box 343—CEP 12.225, Sao Jose dos Campos—SP, Brazil. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-351-AD.” The postcard will be date stamped and returned to the commenter.

Availability of NPRMs

Any person may obtain a copy of this NPRM by submitting a request to the FAA, Transport Airplane Directorate, ANM-114, Attention: Rules Docket No. 2002-NM-351-AD, 1601 Lind Avenue, SW., Renton, Washington 98055-4056.

Discussion

On May 17, 2001, the FAA issued AD 2001-10-15, amendment 39-12241 (66 FR 28646, May 24, 2001), applicable to certain EMBRAER Model EMB-135 and -145 series airplanes. That AD requires a one-time inspection to detect incorrect wiring of the electrical connectors to the pressure switches and cartridges on the fire extinguisher bottles for the engines and the auxiliary power unit (APU); disconnection and reconnection of the wiring, as necessary; and adjustment of the length of the harnesses on the fire extinguisher bottles to avoid future misconnections. That action was prompted by the issuance of mandatory continuing airworthiness information issued by the Departmento de Aviacao Civil (DAC), the Brazilian civil airworthiness authority. The requirements of that AD are intended to prevent the issuance of erroneous commands or the receipt of erroneous information pertaining to the fire extinguisher system for the engines and APU, which could result in the inability to put out a fire in an engine or in the APU.

Actions Since Issuance of Previous Rule

Since the issuance of that AD, the manufacturer has issued new service information which contains new requirements.

Explanation of Relevant Service Information

EMBRAER has issued Service Bulletin 145-26-0010, Change 03, dated August 28, 2002, which describes procedures for modifying the electrical connectors and wire harnesses for the engine and APU fire extinguisher bottle cartridges, and pressure switches. The procedures for modification include adjusting the length of the harness system. Following this adjustment, the modification includes installing identification sleeves on the harness and the electrical connectors of the harness, and installing matching color-coded identification stickers on the fire extinguisher bottles to identify the outlet and switch connections. The service bulletin also provides procedures for replacing certain clamps with new, larger clamps or installing tiedown straps; installing new terminals if necessary; and carrying out a functional test of the engine fire extinguisher system.

The DAC classified this service bulletin as mandatory and issued Brazilian airworthiness directive 2001-09-01R1, dated June 26, 2002, to ensure the continued airworthiness of these airplanes in Brazil.

EMBRAER Service Bulletin 145-26-0010 refers to Pacific Scientific Service Bulletin 26-1130d, dated June 18, 2001, as an additional source of service information for accomplishment of the installation of the color-coded identification stickers. The Pacific Scientific service bulletin is included in the EMBRAER service bulletin.

FAA's Conclusions

These airplane models are manufactured in Brazil and are type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would supersede AD 2001-10-15 to continue to require a one-time inspection to detect incorrect wiring of electrical connectors to the pressure switches and cartridges on the fire extinguisher bottles for the engines and the APU; disconnection and reconnection of the wiring, as necessary; and adjustment of the length of the harnesses on the fire extinguisher bottles to avoid future misconnections. This proposed AD would require an additional adjustment of the harnesses; and installing color-coded identification sleeves and heat-shrinkable sleeves to the subject electrical harness connectors, and color-coded stickers to identify the functions of the engine and APU fire extinguisher bottles. This proposed AD also would require replacing clamps with new, larger clamps or installing tiedown straps; and installing new terminals if necessary. This proposed AD also would require a functional test of the engine fire extinguisher system. The actions would be required to be accomplished in accordance with the service bulletin described previously.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD; therefore, paragraphs (b) and (c) and Notes 1 and 3 of AD 2001-10-15 are not included in this proposed AD.

Cost Impact

There are approximately 435 airplanes of U.S. registry that would be affected by this proposed AD.

The actions that are currently required by AD 2001-10-15 and continued in this proposed AD take approximately 3 work hours per airplane to accomplish, at an average labor rate of $65 per work hour. Based on these figures, the cost impact of the currently required actions on U.S. operators is estimated to be $84,825, or $195 per airplane.

The new actions that are proposed in this AD action would take approximately 7 work hours per airplane to accomplish, at an average labor rate of $65 per work hour. Required parts would cost approximately $93 per airplane. Based on these figures, the cost impact of the proposed requirements of this AD on U.S. operators is estimated to be $238,380, or $548 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12241 (66 FR 28646, May 24, 2001), and by adding a new airworthiness directive (AD), to read as follows:

Empresa Brasileira de Aeronautica S.A. (EMBRAER): Docket 2002-NM-351-AD. Supersedes AD 2001-10-15, Amendment 39-12241.

Applicability: Model EMB-135 and -145 series airplanes, as listed in EMBRAER Service Bulletin 145-26-0010, Change 03, dated August 28, 2002; certificated in any category.

Compliance: Required as indicated, unless accomplished previously.

To prevent the issuance of erroneous commands or the receipt of erroneous information pertaining to the fire extinguisher system for the engines and auxiliary power unit (APU), which could result in the inability to put out a fire in an engine or in the APU, accomplish the following:

Restatement of the Requirements of AD 2001-10-15

Inspection

(a) For airplanes listed in EMBRAER Service Bulletin 145-26-0009, dated January 26, 2001: Within 100 flight hours after June 8, 2001 (the effective date of AD 2001-10-15, amendment 39-12241), perform a one-time general visual inspection to detect incorrect wiring of electrical connectors to the pressure switches and cartridges on the fire extinguisher bottles for the engines and the APU, in accordance with paragraph 3.D. of the Accomplishment Instructions of EMBRAER Service Bulletin 145-26-0009, dated January 26, 2001; or Change 01, dated June 25, 2001.

Note 1: For the purposes of this AD, a general visual inspection is defined as: “A visual examination of an interior or exterior area, installation, or assembly to detect obvious damage, failure, or irregularity. This level of inspection is made under normally available lighting conditions such as daylight, hangar lighting, flashlight, or droplight, and may require removal or opening of access panels or doors. Stands, ladders, or platforms may be required to gain proximity to the area being checked.”

(1) If the wiring connections are correct: Prior to further flight, adjust the length of the harnesses to the fire extinguisher bottles, in accordance with the service bulletin.

(2) If the wiring connections are incorrect: Prior to further flight, re-connect them and adjust the length of the harnesses to the fire extinguisher bottles, in accordance with the service bulletin.

New Requirements of This AD

Inspection

(b) For airplanes not subject to paragraph (a) of this AD: Within 100 flight hours after the effective date of this AD, perform a one-time general visual inspection to detect incorrect wiring of electrical connectors to the pressure switches and cartridges on the fire extinguisher bottles for the engines and the APU, in accordance with paragraph 3.D. of the Accomplishment Instructions of EMBRAER Service Bulletin 145-26-0009, Change 01, dated June 25, 2001.

(1) If the wiring connections are correct: Prior to further flight, adjust the length of the harnesses to the fire extinguisher bottles, in accordance with the service bulletin.

(2) If the wiring connections are incorrect: Prior to further flight, re-connect them and adjust the length of the harnesses to the fire extinguisher bottles, in accordance with the service bulletin.

Modifications

(c) For all airplanes: Within 4,000 flight hours after the effective date of this AD, modify the electrical harnesses and electrical connectors of the engine and APU fire extinguisher system, including installing identification sleeves and color-coded identification stickers, in accordance with the Accomplishment Instructions of EMBRAER Service Bulletin 145-26-0010, Change 03, dated August 28, 2002.

Parts Installation

(d) As of the effective date of this AD, no person may install on any airplane, engine fire extinguisher bottle part number (P/N) 33600057-1 or P/N 33600057-5, serial number (S/N) 26916D1 through 42300D2 inclusive; and APU fire extinguisher bottles P/N 30100050-1 or P/N 30100050-5, SN 301209A1 through SN 38950A1, inclusive; unless color-coded stickers are installed in accordance with paragraph (c) of this AD.

Actions Accomplished per Previous Issues of the Service Bulletin

(e) Actions accomplished prior to the effective date of this AD in accordance with EMBRAER Service Bulletin 145-26-0010, dated June 25, 2001; Change 01, dated January 3, 2002; or Change 02, dated June 5, 2002; are considered acceptable for compliance with the corresponding actions specified in this AD.

Alternative Methods of Compliance

(f) In accordance with 14 CFR 39.19, the Manager, International Branch, ANM-116, FAA, Transport Airplane Directorate, is authorized to approve alternative methods of compliance for this AD.

Note 2: The subject of this AD is addressed in Brazilian airworthiness directive 2001-09-01R1, dated June 26, 2002.

Issued in Renton, Washington, on May 5, 2004.
Ali Bahrami,
Acting Manager, Transport Airplane Directorate, Aircraft Certification Service.

[FR Doc. 04-10744 Filed 5-11-04; 8:45 am]

BILLING CODE 4910-13-P